FEDERAL COMMUNICATIONS COMMISSION

47 CFR Part 54

[CC Docket No. 95-116, FCC 04-217]

Telephone Number Portability

AGENCY: Federal Communications Commission.

ACTION: Proposed rule.

SUMMARY: In this document, the Commission seeks comment on the recommendation of the North American Numbering Council (NANC), its advisory committee on numbering issues, for reducing the time interval for intermodal porting (porting between wireline and wireless carriers). The Commission also seeks comment on implementation issues in the event that a reduced intermodal porting interval is adopted.

DATES: Comments are due on or before November 17, 2004. Reply comments are due on or before December 17, 2004.

ADDRESSES: Federal Communications Commission, 445 12th Street, SW., Washington, DC 20554. See Comment Filing Procedures for further filing instructions.

FOR FURTHER INFORMATION CONTACT: Pam Slipakoff, Attorney Advisor, Wireline Competition Bureau, Telecommunications Access Policy Division, (202) 418-7705, TTY (202) 418-0484 or Jennifer Salhus, Attorney Advisor, Wireless Telecommunications Bureau, Policy Division, (202) 418-1310, TTY (202) 418-1169.

SUPPLEMENTARY INFORMATION: This is a summary of the Commission's Second Further Notice of Proposed Rulemaking, CC Docket No. 95-116, released September 16, 2004. The full text of this document is available for public inspection during regular business hours in the FCC Reference Center, Room CY-A257, 445 12th Street, SW., Washington, DC 20554.

I. Introduction

1. In this Second Further Notice of Proposed Rulemaking, we seek comment on the NANC's recommendation for reducing the time interval for intermodal porting. We also seek comment on implementation issues in the event that a reduced intermodal porting interval is adopted.

II. Discussion

2. Porting Intervals. In implementing the requirements of section 251 of the Communications Act of 1934 (Communications Act), as amended, the Commission has sought input from the NANC on various issues. In 1997, the Commission adopted the NANC's recommendation of a four business day porting interval for wireline ports. At that time, the NANC did not specify a porting interval for intermodal porting. Meanwhile, the wireless industry has established a voluntary standard of two and one half hours for wireless-to-wireless ports.

3. On November 10, 2003, the Commission released a Memorandum Opinion and Order and Further Notice of Proposed Rulemaking, 68 FR 68831 (December 10, 2003) (Intermodal Porting Order and FNPRM) clarifying certain aspects of intermodal porting and seeking further comment on issues relating to intermodal local number portability. Specifically, we sought comment on whether carriers should be required to reduce the current four business day porting interval for ports between wireless and wireline carriers. We also sought comment on what the reduced porting interval should be. We sought input from the NANC on this issue.

4. NANC Report. In response to the Further Notice of Proposed Rulemaking, the NANC submitted a report that provides several options for reducing the intermodal porting interval. The report explains the differences between the wireline porting process and the wireless porting process and how these differences impact the intermodal porting interval. Generally, there is a two stage porting process—the Confirmation Interval (which currently takes up to 24 hours for ports involving wireline carriers) and the Activation Interval (which currently takes up to three business days for ports involving wireline carriers). The Confirmation Interval involves inter-carrier communications for the exchange of the Local Service Request (LSR or Port Response) and the Firm Order Confirmation (FOC) between the old service provider and the new service provider. During the Confirmation Interval, the new service provider collects information from the customer to prepare a LSR that is sent to the old service provider. During this process, the new service provider and old service provider exchange information and agree on a due date to port the telephone number.

5. To reduce the overall four-day porting interval, the NANC considered reductions to the Confirmation Interval and the Activation Interval. Specifically, it developed two Confirmation Interval proposals (Proposals C1 and C2) and three Activation Interval proposals (Proposals A1, A2, and A3). Each of the two Confirmation Interval proposals were considered with each of the three Activation Interval proposals, for a total of six proposals for reducing the intermodal porting interval.

6. After reviewing the proposals, the NANC found that the costs of Proposal C1 outweighed the potential benefits. With respect to the Activation Interval, the NANC determined that Proposal A3 provides a substantial reduction in the intermodal porting interval at a much lower cost to the industry and consumers than the other Activation Interval proposals. Likewise, the NANC notes that Proposal A2 would likely result in greater costs to the industry in comparison to the costs to implement Proposal A3.

7. The NANC concluded that the C2/A3 combination provides a shorter porting interval and the most economical approach to a reduced intermodal porting interval. If this approach is adopted, orders received in a mechanized manner should be responded to in five hours or less (Proposal C2) and the ten-digit triggers should be set 24 hours before 12:01 a.m. of the confirmed due date (Proposal A3). According to the NANC, this combination provided the shortest “maximum porting interval” (53 hours) and the greatest total time saved (43 hours) compared to the four business day (96 hours) interval in our rules. For example, if a request to port was placed at 9:00 a.m. on a Monday, the Confirmation Interval would be completed by 2:00 p.m. that afternoon. The Activation Interval could then begin. The ten-digit trigger could then be set for 11:59 p.m on Wednesday. The port could be completed as early as 12:01 a.m. on Thursday.

8. Porting Interval Reduction. The NANC proposes a method that would reduce the intermodal porting interval by almost 45 percent, from 96 hours to 53 hours, by requiring a response to orders received in a mechanized manner in five hours or less and using a process called “Early Morning Activation.” We seek comment on the NANC's recommendation for shortening the intermodal porting interval to 53 hours. We also seek comment on alternative mechanisms for reducing the intermodal porting interval.

9. According to the NANC's report, a uniform format for the exchange of information and a single mechanized interface could reduce the Confirmation Interval from 24 hours to five hours. Currently, each LEC may choose a different Local Service Ordering Guideline (LSOG) version based on its business needs. The NANC recommends that the industry establish one common LSOG version for porting to facilitate a reduction in the Confirmation Interval. We seek comment on the NANC's recommendation. We also seek comment on whether or not the costs of a standardized LSOG and mechanized interface would outweigh the benefits, including for small entities. Commenters advocating a uniform LSOG should specify the items that should be included in a standardized LSOG.

10. In its report, the NANC also notes that reducing the intermodal porting interval could increase the number of inadvertent ports. We seek comment on the impact of a reduced intermodal porting interval on inadvertent ports. We also seek comment on the procedures that should be established to minimize and restore inadvertent ports. We further seek comment on the costs for correcting inadvertent ports that result from a reduced intermodal porting interval.

11. The NANC did not consider the extent to which reducing the intermodal porting interval will benefit consumers. Thus, we seek comment on whether the costs of a reduced intermodal porting interval outweigh the benefits of making it quicker for consumers to port their numbers.

12. Recently, many small carriers providing service in areas outside of the top 100 Metropolitan Statistical Areas (MSAs) implemented number portability. We recognize that reducing the intermodal porting interval now for these carriers may produce unique challenges. The NANC notes that the economic impacts of shortening the intermodal porting interval may not be justified for rural telephone companies. We seek comment on whether certain classes of carriers (e.g., SBA Tier III wireless carriers, rural telephone companies and/or rural carriers) should be exempt from a reduced intermodal porting interval, if one is adopted. Similarly, we seek comment on whether an exemption is necessary for certain classes of small telephone companies as defined generically by the SBA. We seek comment on what costs these classes of carriers face to reduce the intermodal porting interval pursuant to the NANC proposal. Specifically, we seek comment on the costs SBA Tier III wireless carriers, rural telephone companies and/or rural carriers would face to establish a mechanized interface pursuant to Proposal C2. In addition, we seek comment on the costs these carriers would face to establish an early morning activation method as outlined in Proposal A3. Finally, we seek comment on the appropriate length of any potential exemption and any other alternative approaches to minimizing the economic impact for SBA Tier III wireless carriers, rural telephone companies and/or rural carriers.

13. Implementation. The NANC Report states that the industry could require up to 24 months to reduce the intermodal porting interval as recommended in Proposal C2/A3. We seek comment on this proposed implementation timeframe. We also seek comment on whether we should establish implementation milestones. Commenters advocating implementation milestones should specify what milestones should be established. Finally, we seek comment on whether an alternative timeframe should be established for certain classes of carriers (e.g., SBA Tier III wireless carriers, rural telephone companies and/or rural carriers) or carriers operating in different geographic areas (i.e., the top 100 MSAs versus areas outside of the top 100 MSAs).

14. The NANC also noted several issues that it believes require further exploration prior to implementing its recommendation. Specifically, the NANC recommends further exploration of the following issues which are currently being addressed by the NANC's Local Number Portability Administration Working Group: (1) Ports attempted while port conflict still unresolved; (2) intermodal “port confirmation” date not recognized; (3) inconsistent intermodal porting process causes service disruption on due date; (4) intermodal port date change (post confirmation) not recognized; (5) Customer Service Request (CSR) not executable for intermodal porting from a Type 1 reseller; and (6) various service provider operational systems issues. We seek comment on the impact of these, and any other outstanding issues, on implementing a shorter intermodal porting interval. Specifically, we seek comment on whether the resolution of these, and any other outstanding issues, will help or hinder the implementation of a reduced intermodal porting interval. Similarly, we seek comment on whether a reduced intermodal porting interval will help or hinder industry efforts to resolve these outstanding issues.

15. Cost Recovery. In our recent order addressing BellSouth's petition for a waiver of our cost recovery rules, we rejected the request of Sprint and CenturyTel that we declare that costs associated with future changes to intermodal LNP requirements, including porting intervals, are recoverable by incumbent LECs through a new or modified LNP charge without seeking a special waiver. In that order, we determined that the issue of cost recovery for any proposed regulatory mandate should be considered in conjunction with the proposed mandate. Accordingly, we seek comment in this proceeding on the magnitude of costs that incumbent LECs would incur to reduce the intermodal porting interval pursuant to either the NANC proposal or alternative proposals under consideration in this proceeding. We also seek comment on whether the implementation of a special cost recovery mechanism for such costs is appropriate. The NANC estimates that the proposal to respond to mechanized orders within five hours or less would cost less than $50 million to implement industrywide. We seek comment on this estimate as well as estimates for alternative proposals that are submitted.

16. We note that section 251(e)(2) provides that “[t]he cost of establishing telecommunications numbering administration arrangements and number portability shall be borne by all telecommunications carriers on a competitively neutral basis as determined by the Commission.” In the Cost Recovery Order, 63 FR 35150, June, 29, 1998, the Commission determined that “‘the costs of establishing number portability' include not just the costs associated with the creation of the regional databases and the initial physical upgrading of the public switched telephone network, but also the ongoing costs, such as the costs involved in transferring a telephone number to another carrier and routing calls under the N-1 protocol.” The Commission also determined, however, that “once incumbent LECs have recovered their initial implementation costs, number portability will be a normal network feature, and a special end-user charge will no longer be necessary to ensure that incumbent LECs recover their number portability costs on a competitively neutral basis.” Accordingly, we seek comment on whether the costs of implementing a reduced porting interval, if any, are “initial implementation costs” or costs associated with “normal network features” that are not entitled to a special cost recovery mechanism.

III. Procedural Issues

A. Ex Parte Presentations

17. This is a permit-but-disclose notice and comment rulemaking proceeding. Members of the public are advised that ex parte presentations are permitted, provided they are disclosed under the Commission's Rules.

B. Initial Regulatory Flexibility Analysis

18. As required by the Regulatory Flexibility Act of 1980, as amended (RFA), the Commission has prepared this Initial Regulatory Flexibility Analysis (IRFA) of the possible significant economic impact on a significant number of small entities by the policies and rules proposed in this Second Further Notice of Proposed Rulemaking. Written public comments are requested on this IRFA. Comments must be identified as responses to the IRFA and must be filed by the deadlines for comments on the Second Further Notice of Proposed Rulemaking provided below. The Commission will send a copy of the Second Further Notice of Proposed Rulemaking, including this IRFA, to the Chief Counsel for Advocacy of the Small Business Administration (SBA). In addition, the Second Further Notice of Proposed Rulemaking and IRFA (or summaries thereof) will be published in the Federal Register.

1. Need for, and Objective of, the Proposed Rules

19. This Second Further Notice of Proposed Rulemaking seeks comment on the recommendation of the North American Numbering Council (NANC), our advisory committee on numbering issues, for reducing the interval for intermodal porting (wireline to wireless and wireless to wireline porting) from 96 to 53 hours. The Commission also seeks comment on alternative mechanisms for reducing the intermodal porting interval. In addition, the Commission seeks comment on whether the costs of a reduced intermodal porting interval outweigh the benefits of making it quicker for consumers to port their numbers. The Commission also seeks comment on whether certain classes of carriers (e.g., SBA Tier III wireless carriers, rural telephone companies and/or rural carriers) should be exempt from a shorter intermodal porting interval, if adopted. In addition, the Commission also seeks comment on whether an exemption is necessary for certain classes of small telephone companies as defined generically by the SBA. Specifically, the Commission seeks comment on the costs these classes of carriers face to reduce the intermodal porting interval pursuant to the NANC proposal. The Commission also seeks comment on the appropriate length of any potential exemption and any other alternative approaches to minimizing the economic impact on SBA Tier III wireless carriers, rural telephone companies and/or rural carriers.

20. In this Second Further Notice of Proposed Rulemaking, the Commission seeks comment on implementation issues in the event that a reduced intermodal porting interval is adopted. Specifically, the Commission seeks comment on the implementation timeframe and whether or not it should establish implementation milestones. In addition, the Commission seeks comment on the magnitude of costs that incumbent LECs would incur to reduce the intermodal porting interval pursuant to either the NANC proposal or alternative proposals under consideration in this proceeding, and whether a special recovery mechanism for such costs is appropriate.

2. Legal Basis

21. The proposed action is authorized under sections 1, 3, 4(i), 201, 202, 251 of the Communications Act of 1934, as amended, 47 U.S.C. 151, 153, 154(i), 201-202, and 251.

3. Description and Estimate of the Number of Small Entities to Which the Proposed Rules Will Apply

22. The RFA directs agencies to provide a description of, and, where feasible, an estimate of the number of small entities that may be affected by the rules adopted herein. The RFA generally defines the term “small entity” as having the same meaning as the terms “small business,” “small organization,” and “small governmental jurisdiction.” In addition, the term “small business” has the same meaning as the term “small business concern” under the Small Business Act, unless the Commission has developed one or more definitions that are appropriate to its activities. Under the Small Business Act, a “small business concern” is one that: (1) Is independently owned and operated; (2) is not dominant in its field of operation; and (3) meets any additional criteria established by the Small Business Administration (SBA).

23. We have included small incumbent local exchange carriers in this present RFA analysis. As noted above, a “small business” under the RFA is one that, inter alia, meets the pertinent small business size standard (e.g., a telephone communications business having 1,500 or fewer employees), and “is not dominant in its field of operation.” The SBA's Office of Advocacy contends that, for RFA purposes, small incumbent local exchange carriers are not dominant in their field of operation because any such dominance is not “national” in scope. We have therefore included small incumbent local exchange carriers in this IRFA analysis, although we emphasize that this RFA action has no effect on Commission analyses and determinations in other, non-RFA contexts.

24. Incumbent Local Exchange Carriers. Neither the Commission nor the SBA has developed a specific small business size standard for incumbent local exchange service providers. The closest applicable size standard under the SBA rules is for Wired Telecommunications Carriers. Under that standard, such a business is small if it has 1,500 or fewer employees. According to the FCC's Telephone Trends Report data, 1,310 incumbent local exchange carriers reported that they were engaged in the provision of local exchange services. Of these 1,310 carriers, an estimated 1,025 have 1,500 or fewer employees and 285 have more than 1,500 employees.

25. Competitive Local Exchange Carriers. Neither the Commission nor the SBA has developed a specific small business size standard for competitive local exchange service providers. The closest applicable size standard under the SBA rules is for Wired Telecommunications Carriers. Under that standard, such a business is small if it has 1,500 or fewer employees. According to the FCC's Telephone Trends Report data, 563 companies reported that they were engaged in the provision of either competitive access provider services or competitive local exchange carrier services. Of these 563 companies, an estimated 472 have 1,500 or fewer employees and 91 have more than 1,500 employees.

26. Wireless Service Providers. The SBA has developed a small business size standard for wireless firms within the two broad economic census categories of “Paging” and “Cellular and Other Wireless Telecommunications.” Under both SBA categories, a wireless business is small if it has 1,500 or fewer employees. For the census category of Paging, Census Bureau data for 1997 show that there were 1,320 firms in this category that operated for the entire year. Of this total, 1,303 firms had employment of 999 or fewer employees, and an additional 17 firms had employment of 1,000 employees or more. Thus, under this category and associated small business size standard, the majority of firms can be considered small. For the census category Cellular and Other Wireless Telecommunications, Census Bureau data for 1997 show that there were 977 firms in this category that operated for the entire year. Of this total, 965 firms had employment of 999 or fewer employees, and an additional 12 firms had employment of 1,000 employees or more. Thus, under this second category and size standard, the majority of firms can, again, be considered small.

27. Cellular Licensees/Wireless Telephony. Wireless telephony includes cellular, personal communications services, and specialized mobile radio telephony carriers. As noted above, the SBA has developed a small business size standard for wireless firms within the broad economic census category “Cellular and Other Wireless Telecommunications.” Under this SBA category, a wireless business is small if it has 1,500 or fewer employees. For the census category Cellular and Other Wireless Telecommunications firms, Census Bureau data for 1997 show that there were 977 firms in this category that operated for the entire year. Of this total, 965 firms had employment of 999 or fewer employees, and an additional 12 firms had employment of 1,000 employees or more. Thus, under this category and size standard, the great majority of firms can be considered small. Also, according to Telephone Trends Report data, 447 carriers report that they are engaged in the provision of cellular service, personal communications service, or specialized mobile radio telephony services, which are placed together in the data. We have estimated that 245 of these are small under the SBA small business size standard and 202 have more than 1,500 employees.

28. Broadband Personal Communications Service. The broadband personal communications services (PCS) spectrum is divided into six frequency blocks designated A through F, and the Commission has held auctions for each block. The Commission has created a small business size standard for Blocks C and F as an entity that has average gross revenues of less than $40 million in the three previous calendar years. For Block F, an additional small business size standard for “very small business” was added and is defined as an entity that, together with its affiliates, has average gross revenues of not more than $15 million for the preceding three calendar years. These small business size standards, in the context of broadband PCS auctions, have been approved by the SBA. No small businesses within the SBA-approved small business size standards bid successfully for licenses in Blocks A and B. There were 90 winning bidders that qualified as small entities in the Block C auctions. A total of 93 “small” and “very small” business bidders won approximately 40 percent of the 1,479 licenses for Blocks D, E, and F. On March 23, 1999, the Commission reauctioned 155 C, D, E, and F Block licenses; there were 113 small business winning bidders.

29. On January 26, 2001, the Commission completed the auction of 422 C and F Broadband PCS licenses in Auction No. 35. Of the 35 winning bidders in this auction, 29 qualified as “small” or “very small” businesses. Subsequent events, concerning Auction 35, including judicial and agency determinations, resulted in a total of 163 C and F Block licenses being available for grant.

4. Description of Projected Reporting, Recordkeeping, and Other Compliance Requirements

30. After reviewing several alternatives, the NANC found that the C2/A3 Proposal provides a shorter porting interval and the most economical approach to an intermodal porting interval based on the proposals considered. Pursuant to this plan, orders received in a mechanized manner should be responded to in five hours or less (Proposal C2) and the ten-digit trigger should be set a full day before 12:01 a.m. of the confirmed due date (Proposal A3). According to the NANC, this combination provides the shortest “maximum porting interval” (53 hours) and the greatest reduction in total time saved (43 hours). The NANC, however, estimates that the industry would need approximately 24 months to implement Proposal C2 after a Commission mandate is issued. Should the Commission decide to adopt the NANC's recommendation, or any other change, all carriers, including small entity carriers, may require upgrades to their porting systems. These potential changes may impose new obligations and costs on carriers. We seek comment on the types of burdens carriers could face if the proposed recommendations, or any other suggested recommendations are adopted. Entities, especially small businesses, are encouraged to quantify, if possible, the costs and benefits of potential reporting, recordkeeping and other compliance requirements. We note that the NANC estimates that the C2/A3 Proposal would cost less than $50 million to implement industry wide. The Commission seeks comment on this estimate. Commenters should address the specific costs of the NANC's recommendations for the C2/A3 Proposal, including the costs associated with establishing a mechanized interface pursuant to Proposal C2 and an early morning activation approach as described in Proposal A3. The Commission also seeks comment on the impacts of such changes on small and rural telephone companies. The Commission also considers an exemption for certain classes of carriers. We also note that the Commission may choose to keep the intermodal porting interval at four days. Thus, there would be no new requirements on any group of carriers, including small entity carriers.

5. Steps Taken To Minimize Significant Economic Impact on Small Entities, and Significant Alternatives Considered

31. The RFA requires an agency to describe any significant, specifically small business, alternatives that it has considered in reaching its proposed approach, which may include the following four alternatives (among others): (1) The establishment of differing compliance or reporting requirements or timetables that take into account the resources available to small entities; (2) the clarification, consolidation, or simplification of compliance or reporting requirements under the rule for small entities; (3) the use of performance, rather than design, standards; and (4) an exemption from coverage of the rule, or any part thereof, for small entities.

32. This IRFA seeks comment on how the NANC's recommendation, and any other potential changes to the intermodal porting interval, could be implemented in a manner that reduces the potential burden of cost compliance for small entities. Specifically, the Commission seeks comment on whether, and for what period of time, certain classes of carriers, (e.g., SBA Tier III wireless carriers, rural telephone companies and/or rural carriers) should be exempt from a shorter intermodal porting interval, if adopted. The Commission also seeks comment on whether an exemption is necessary for certain classes of small telephone companies as defined by the SBA. Such an exemption may benefit small entities by obviating the need, or deferring the timeframe, for small and rural telephone companies to establish a mechanized interface for intermodal porting and an early morning activation process. The Commission also seeks comment on alternative approaches that would minimize the economic impact on SBA Tier III wireless carriers, rural telephone companies and/or rural carriers. Thus, we seek comment on the NANC recommendation, and any other possible changes to the intermodal porting interval, and whether any or all of them would minimize the economic impact on small entities, which may include providers of wireless as well as wireline communications services. We note that the NANC considered and did not recommend higher cost alternatives. The NANC Report states that the industry could require up to 24 months to reduce the intermodal porting interval as recommended in Proposal C2/A3. The Commission seeks comment on this proposed implementation timeframe and whether implementation milestones should be established. The Commission also seeks comment on whether a different timeframe should be established for certain classes of carriers (e.g., SBA Tier III wireless carriers, rural telephone companies and/or rural carriers) or carriers operating in different geographic areas (i.e., the top 100 MSAs versus areas outside of the top 100 MSAs).

6. Federal Rules That May Duplicate, Overlap, or Conflict With the Proposed Rules

33. None.

C. Paperwork Reduction Act

34. This document contains proposed modified information collection requirements. The Commission, as part of its continuing effort to reduce paperwork burdens, invites the general public and the Office of Management and Budget (OMB) to comment on the information collection requirements contained in this document, as required by the Paperwork Reduction Act of 1995, Public Law 104-13. Public and agency comments are due December 17, 2004. Comments should address: (a) Whether the proposed collection of information is necessary for the proper performance of the functions of the Commission, including whether the information shall have practical utility; (b) the accuracy of the Commission's burden estimates; (c) ways to enhance the quality, utility, and clarity of the information collected; and (d) ways to minimize the burden of the collection of information on the respondents, including the use of automated collection techniques or other forms of information technology. In addition, pursuant to the Small Business Paperwork Relief Act of 2002, Public Law 107-198, see 44 U.S.C. 3506(c)(4), we seek specific comment on how we might “further reduce the information collection burden for small business concerns with fewer than 25 employees.”

D. Comment Filing Procedures

35. We invite comment on the issues and questions set forth in the Further Notice or Proposed Rulemaking and Initial Regulatory Flexibility Analysis contained herein. Pursuant to applicable procedures set forth in sections 1.415 and 1.419 of the Commission's rules, interested parties may file comments as follows: Comments are due on or before November 17, 2004, and reply comments are due on or before December 17, 2004. All filings should refer to CC Docket No. 95-116. Comments may be filed using the Commission's Electronic Comment Filing System (ECFS) or by filing paper copies. See Electronic Filing of Documents in Rulemaking Proceedings, 63 FR 24121, (May 1, 1998).

36. Comments filed through the ECFS can be sent as an electronic file via the Internet to http://www.fcc.gov/e-file/ecfs.html. Generally, only one copy of an electronic submission must be filed. If multiple docket or rulemaking numbers appear in the caption of this proceeding, however, commenters must transmit one electronic copy of the comments to each docket or rulemaking number referenced in the caption. In completing the transmittal screen, commenters should include their full name, U.S. Postal Service mailing address, and the applicable docket or rulemaking number. Parties may also submit an electronic comment by Internet e-mail. To get filing instructions for e-mail comments, commenters should send an e-mail to ecfs@fcc.gov, and should include the following words in the body of the message, “get form <your e-mail address>.” A sample form and directions will be sent in reply.

37. Parties who choose to file by paper must file an original and four copies of each filing. If more than one docket or rulemaking number appears in the caption of this proceeding, commenters must submit two additional copies for each additional docket or rulemaking number. Filings can be sent by hand or messenger delivery, by commercial overnight courier, or by first-class or overnight U.S. Postal Service mail (although we continue to experience delays in receiving U.S. Postal Service mail). The Commission's contractor, Natek, Inc., will receive hand-delivered or messenger-delivered paper filings for the Commission's Secretary at 236 Massachusetts Avenue, NE., Suite 110, Washington, DC 20002. The filing hours at this location are 8 a.m. to 7 p.m. All hand deliveries must be held together with rubber bands or fasteners. Any envelopes must be disposed of before entering the building. Commercial overnight mail (other than U.S. Postal Service Express Mail and Priority Mail) must be sent to 9300 East Hampton Drive, Capitol Heights, MD 20743. U.S. Postal Service first-class mail, Express Mail, and Priority Mail should be addressed to 445 12th Street, SW., Washington, DC 20554. All filings must be addressed to the Commission's Secretary, Marlene H. Dortch, Office of the Secretary, Federal Communications Commission.

38. Parties also must send three paper copies of their filing to Sheryl Todd, Telecommunications Access Policy Division, Wireline Competition Bureau, Federal Communications Commission, 445 12th Street SW., Room 5-B540, Washington, DC 20554. In addition, commenters must send diskette copies to the Commission's duplicating contractor, Best Copy and Printing, Inc., Portals II, 445 12th Street, SW., Room CY-B402, Washington, DC 20054.

39. Accessible formats (computer diskettes, large print, audio recording and Braille) are available to persons with disabilities by contacting Brian Millin, of the Consumer & Governmental Affairs Bureau, at (202) 418-7426, TTY (202) 418-7365, or at bmillin@fcc.gov. This Second Further Notice of Proposed Rulemaking can be downloaded in ASCII Text format at: http://www.fcc.gov/wtb.

IV. Ordering Clauses

40. Pursuant to the authority contained in sections 1, 4(i), 4(j), 201-205, 218, 251, and 332 of the Communications Act of 1934, as amended, 47 U.S.C. 151, 154(i), 154(j), 201-205, 218, 251, and 332, this Second Further Notice of Proposed Rulemaking is adopted.

41. It is further ordered that the Commission's Consumer and Governmental Affairs Bureau, Reference Information Center, shall send a copy of this Second Further Notice of Proposed Rulemaking, including the Initial Regulatory Flexibility Analysis, to the Chief Counsel for Advocacy of the Small Business Administration.

Federal Communications Commission.
Marlene H. Dortch,
Secretary.

[FR Doc. 04-23292 Filed 10-15-04; 8:45 am]

BILLING CODE 6712-01-P